DEPARTMENT OF THE INTERIOR

Minerals Management Service

[Docket No. MMS-2007-OMM-0075]

Agency Information Collection Activities: Proposed Collection; Comment Request

AGENCY: Minerals Management Service (MMS), Interior.

ACTION: Notice of extension of an information collection (1010-0068).

SUMMARY: To comply with the Paperwork Reduction Act of 1995 (PRA), MMS is inviting comments on a collection of information that we will submit to the Office of Management and Budget (OMB) for review and approval. The information collection request (ICR) concerns the paperwork requirements in the regulations under 30 CFR 250, Subpart M, “Unitization.”

DATE: Submit written comments by February 25, 2008.

ADDRESSES: You may submit comments by any either of the following methods listed below.

• Electronically: go to http://www.regulations.gov, select “Minerals Management Service” from the agency drop-down menu, then click “submit.” In the Docket ID column, select MMS-2007-OMM-0063 to submit public comments and to view supporting and related materials available. Information on using Regulations.gov, including instructions for accessing documents, submitting comments, and viewing the docket after the close of the comment period, is available through the site's “User Tips” link. All comments submitted will be published and posted to the docket after the closing period.

• Mail or hand-carry comments to the Department of the Interior; Minerals Management Service; Attention: Cheryl Blundon; 381 Elden Street, MS-4024; Herndon, Virginia 20170-4817. Please reference “Information Collection 1010-0068” in your comments.

FOR FURTHER INFORMATION CONTACT: Cheryl Blundon, Regulations and Standards Branch at (703) 787-1607. You may also contact Cheryl Blundon to obtain a copy, at no cost, of the regulations that require the subject collection of information.

SUPPLEMENTARY INFORMATION: Title: 30 CFR Part 250, Subpart M, Unitization.

OMB Control Number: 1010-0068.

Abstract: The Outer Continental Shelf (OCS) Lands Act, as amended (43 U.S.C. 1331 et seq. and 43 U.S.C. 1801 et seq.), authorizes the Secretary of the Interior (Secretary) to prescribe rules and regulations to administer leasing of the OCS. Such rules and regulations will apply to all operations conducted under a lease. Operations on the OCS must preserve, protect, and develop oil and natural gas resources in a manner that is consistent with the need to make such resources available to meet the Nation's energy needs as rapidly as possible; to balance orderly energy resource development with protection of human, marine, and coastal environments; to ensure the public a fair and equitable return on the resources of the OCS; and to preserve and maintain free enterprise competition.

This notice concerns the reporting and recordkeeping elements of 30 CFR Part 250, Subpart M, Unitization. We will protect information from respondents considered proprietary under the Freedom of Information Act (5 U.S.C. 552) and its implementing regulations (43 CFR Part 2) and under regulations at 30 CFR 250.197, “Data and information to be made available to the public or for limited inspection.” No items of a sensitive nature are collected. Responses are required to retain a benefit. The MMS OCS Regions use the information to determine whether to approve a proposal to enter into an agreement to unitize operations under two or more leases or to approve modifications when circumstances change. The information is necessary to ensure that operations will result in preventing waste, conserving natural resources, and protecting correlative rights, including the Government's interests. We also use information submitted to determine competitiveness of a reservoir or to decide that compelling unitization will achieve these results.

Frequency: The frequency of reporting is on occasion.

Estimated Number and Description of Respondents: Approximately 130 Federal OCS oil and gas or sulphur lessees.

Estimated Reporting and Recordkeeping “Hour” Burden: The currently approved annual reporting burden for this collection is 5,884 hours. The following chart details the individual components and respective hour burden estimates of this ICR. In calculating the burdens, we assumed that respondents perform certain requirements in the normal course of their activities. We consider these to be usual and customary and took that into account in estimating the burden.

Citation 30 CFR part 250 subpart M | Reporting requirement | Hour burden; fee burden
1301 | General description of requirements | Burden included in the following sections.
1301(d), (f)(3), (g)(1), (g)(2), (ii) | Request suspension of production or operations | Burden covered in 1010-0114.
1302(b) | Request preliminary determination on competitive reservoir | 39
1302(b) | Submit concurrence or objection on competitiveness with supporting evidence | 39
1302(c), (d) | Submit joint plan of operations, supplemental plans, or a separate plan if agreement cannot be reached | 39
1303 | Apply for voluntary unitization, including submitting unit agreement or revision, unit operating agreement, initial plan of operation, and supporting data; request for variance from model agreement and other related requirements | 161 $10,700 fee.
1304(b) | Request compulsory unitization, including submitting unit agreement, unit operating agreement, initial plan of operation, and supporting data; serving non-consenting lessees with documents | 161
1303; 1304 | Submit revisions or modifications to unit agreement, unit operating agreement, plan of operation, change of unit operator, etc.* | 7 Hrs—GOM. 8 Hrs—POCS. $760 fee.
1303; 1304 | Submit initial, and revisions to, participating area* | 50
1304(d) | Request hearing on required unitization | 1
1304(e) | Submit statement at hearing on compulsory unitization | 5
1304(e) | Pay for and submit three copies of verbatim transcript of hearing | 1
1304(f) | Appeal final order of compulsory unitization | Exempt under 5 CFR 1320(a)(2), (c).
1300-1304 | General departure and alternative compliance requests not specifically covered elsewhere in subpart M regulations | 1
* These requirements are specified in each Unit Agreement.

Estimated Reporting and Recordkeeping “Non-Hour Cost” Burden: We have identified two “non-hour cost” burdens for this collection. Section 1303 requires fees for a voluntary unitization or unit expansion and a fee for a unitization revision. We have not identified any other “non-hour cost” burdens associated with this collection of information.

Public Disclosure Statement: The PRA (44 U.S.C. 3501, et seq.) provides that an agency may not conduct or sponsor a collection of information unless it displays a currently valid OMB control number. Until OMB approves a collection of information, you are not obligated to respond.

Comments: Before submitting an ICR to OMB, PRA section 3506(c)(2)(A) requires each agency “* * * to provide notice * * * and otherwise consult with members of the public and affected agencies concerning each proposed collection of information * * *”. Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

Agencies must also estimate the “non-hour cost” burdens to respondents or recordkeepers resulting from the collection of information. Therefore, if you have costs to generate, maintain, and disclose this information, you should comment and provide your total capital and startup cost components or annual operation, maintenance, and purchase of service components. You should describe the methods you use to estimate major cost factors, including system and technology acquisition, expected useful life of capital equipment, discount rate(s), and the period over which you incur costs. Capital and startup costs include, among other items, computers and software you purchase to prepare for collecting information, monitoring, and record storage facilities. You should not include estimates for equipment or services purchased: (i) Before October 1, 1995; (ii) to comply with requirements not associated with the information collection; (iii) for reasons other than to provide information or keep records for the Government; or (iv) as part of customary and usual business or private practices.

We will summarize written responses to this notice and address them in our submission for OMB approval. As a result of your comments, we will make any necessary adjustments to the burden in our submission to OMB.

Public Comment Procedures: Before including your address, phone number, e-mail address, or other personal identifying information in your comment, you should be aware that your entire comment—including your personal identifying information—may be made publicly available at any time. While you can ask us in your comment to withhold your personal identifying information from public review, we cannot guarantee that we will be able to do so.

MMS Information Collection Clearance Officer: Arlene Bajusz (202) 208-7744.

Dated: December 11, 2007.
E.P. Danenberger,
Chief, Office of Offshore Regulatory Programs.

[FR Doc. E7-24928 Filed 12-21-07; 8:45 am]

BILLING CODE 4310-MR-P